COMMISSION ON CIVIL RIGHTS

Notice of Public Meetings of the New Jersey Advisory Committee; (1) Cancellation of Meeting Date and (2) Change of Meeting Date

AGENCY: Commission on Civil Rights.

ACTION: Notice; (1) cancellation of meeting date and (2) change of meeting date.

SUMMARY: The Commission on Civil Rights published a notice in the Federal Register concerning meetings of the New Jersey Advisory Committee. The meeting scheduled for Friday, June 18, 2021 at 1:00 p.m. (ET) is cancelled. The meeting scheduled for Wednesday, September 1 at 1:00 p.m. (ET) is changed to Thursday, September 2 at 1:00 p.m. (ET).

FOR FURTHER INFORMATION CONTACT: Evelyn Bohor, (202) 921-2212, ebohor@usccr.gov.

SUPPLEMENTARY INFORMATION: The notice is in the Federal Register of Thursday, February 11, 2021, in FR Doc. 2021-02797, in the second and third columns of page 9049.

Dated: June 14, 2021.
David Mussatt,
Supervisory Chief, Regional Programs Unit.

[FR Doc. 2021-12827 Filed 6-16-21; 8:45 am]

BILLING CODE P